DEPARTMENT OF HOMELAND SECURITY

Office of the Secretary

Public Workshop; Privacy Compliance Basics and 2011 Developments

AGENCY: Privacy Office, DHS.

ACTION: Notice announcing public workshop.

SUMMARY: The Department of Homeland Security Privacy Office will host a public workshop, “Privacy Compliance Basics and 2011 Developments.”

DATES: The workshop will be held on June 24 and 27, 2011, from 8:30 a.m. to 4:30 p.m.

ADDRESSES: The workshop will be held in the auditorium at the DHS Offices at the GSA Regional Headquarters Building located at 7th and D Streets, SW., Washington, DC 20024.

FOR FURTHER INFORMATION CONTACT: Shannon Kelso, Privacy Office, Department of Homeland Security, Washington, DC 20528; by telephone 703-235-0780; by facsimile 703-235-0442; or by e-mail at PIA@dhs.gov.

SUPPLEMENTARY INFORMATION: The Department of Homeland Security (DHS) Privacy Office is holding a public workshop that will provide in-depth training on the privacy compliance process at DHS. June 24 is a primer for the new and developing privacy professional, presenting baseline Federal privacy compliance requirements including the Privacy Act of 1974, as amended, the E-Government Act of 2002, Office of Management and Budget memoranda, and other policy. June 27 consists of advanced presentations for the experienced privacy professional, including review of recent Privacy Act rulings, program case studies, mapping to IT security requirements, and developments in privacy compliance at the Department.

Individuals are invited to attend just one or both days. The workshop is open to the public and there is no fee for attendance.

Registration and Security: In order to facilitate security requirements of the GSA facility, attendees must register in advance for this workshop. Registration closes at 9 a.m., Wednesday, June 22, 2011. To register, please send an e-mail to PIA@dhs.gov, with “PRIVComplianceWorkshop” in the subject line, and your full name and organizational affiliation in the body of the e-mail. Alternatively, you may call 703-235-0780 to register by providing the Privacy Office with your full name and organizational affiliation.

All attendees who are employed by a federal agency will be required to show their federal agency employee photo identification badge to enter the building. Attendees who do not possess a federal agency employee photo identification badge will need to show a form of government-issued photo identification, such as a driver's license, in order to verify their previously-provided registration information. This is a security requirement of the facility.

The Privacy Office will only use your name for the security purposes of this specific workshop and to contact you in the event of a change to the workshop.

Special Assistance: Persons with disabilities who require special assistance should indicate this in their admittance request and are encouraged to identify anticipated special needs as early as possible.

Mary Ellen Callahan,
Chief Privacy Officer, Department of Homeland Security.

[FR Doc. 2011-13415 Filed 5-27-11; 8:45 am]

BILLING CODE 9110-9L-P